DEPARTMENT OF LABOR

Employment and Training Administration

State Quality Service Plan (SQSP) Handbook, Comment Request

ACTION: Notice; Request for comments.

SUMMARY: The Department of Labor, as part of its continuing effort to reduce paperwork and respondent burden conducts a preclearance consultation program to provide the general public and Federal agencies with an opportunity to comment on proposed and/or continuing collections of information in accordance with a provision or the Paperwork Reduction Act of 1995 at 44 U.S.C. 3506(c)(2)(A). This program helps to ensure that requested data can be provided in the desired format, reporting burden (time and financial resources) is minimized, collection instruments are clearly understood, and the impact of collection requirements on respondents can be properly assessed. Currently, the Employment and Training Administration (ETA) is soliciting comments concerning the proposed extension of the State Quality Service Plan (SQSP).

Guidelines for completion and submittal of the SQSP are contained in ETA Handbook 336, 16th Edition. Fiscal year-specific information such as Federal Program emphasis, or additional budget allocations, will be provided annually in an implementation directive that will initiate the planning process each year. The requirements of the reporting and data collection process itself will remain unchanged from year to year. Copies of the SQSP Handbook may be obtained by contacting the addressed below. The Handbook is also available on the Internet at http://www.itsc.state.md.us/ and http://www.workforcesecurity.doleta.gov.

DATES: Written comments must be submitted to the office listed in the addressee section below on or before August 14, 2001.

ADDRESSES: Delores A. Mackall, U.S. Department of Labor, 200 Constitution Avenue, NW., Room S-4231, Washington, DC 20210, 202-693-3183 (this is not a toll-free number).: FAX, 202-693-3229; Internet: dmackall@doleta.gov.

SUPPLEMENTARY INFORMATION:

I. Background

The SQSP is the planning instrument for the Unemployment Insurance (UI) system nationwide. The statutory basis for the SQSP is Title III of the Social Security Act, which establishes conditions for each State to receive grant funds to administer its UI program. Plans are prepared annually, since funds for UI operations are appropriated each year. ETA's annual budget request for State UI operations contains workload assumptions for which a State must plan in order for the Secretary of Labor to carry out her responsibilities under title III. ETA issues financial planning targets based on the budget request. States make plans based on these assumptions and targets.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques, or other forms of information technology, e.g., permitting electronic submission of responses.

III. Current Actions

ETA proposes to extent this clearance and this request includes a revision to a form (Worksheet UI-3, Quarterly Contingency Report) that States use to report budget information. The revisions will change only the format in which information is reported by deleting three entries of figures that were already entered elsewhere on the form. There is no change in the burden of data collection. Revisions include allowing States to submit the SQSP and the required signature page electronically.

Type of Review: Extension.

Agency: Employment and Training Administration.

Title: SQSP Handbook.

OMB Number: 1205-0132.

Affected Public: State Employment Security Agencies (SESAs).

Total Respondents: 53.

Frequency: Annually.

Average Time per Response: 40 hours.

Estimated Total Burden Hours: 2120 hours.

Estimated Total Burden Cost: $61,324.

Dated: June 4, 2001.
Grace A. Kilbane,
Administrator, Office or Workforce Security.

[FR Doc. 01-15165 Filed 6-14-01; 8:45 am]

BILLING CODE 4510-30-M